NUCLEAR REGULATORY COMMISSION

Sunshine Act Meeting

AGENCY HOLDING THE MEETING: Nuclear Regulatory Commission.

DATES: Weeks of April 2, 9, 16, 23, 30, May 7, 2001.

PLACE: Commissioners' Conference Room, 11555 Rockville Pike, Rockville, Maryland.

STATUS: Public and Closed.

Matters To Be Considered

Week of April 2, 2001

There are no meetings scheduled for the Week of April 2, 2001.

Week of April 9, 2001—Tentative

Monday, April 9, 2001

1:30 p.m.—Briefing on 10 CFR Part 71 Rulemaking (Public Meeting) (Contacts: Naiem Tanious, 301-415-6103; David Pstrak, 301-415-8486)

Tuesday, April 10, 2001

10:25 a.m.—Affirmation Session (Public Meeting) (if needed)

10:30 a.m.—Meeting on Rulemaking and Guidance Development for Uranium Recovery Industry (Public Meeting) (Contact: Michael Layton, 301-415-6676)

Week of April 16, 2001—Tentative

There are no meetings scheduled for the Week of April 16, 2001.

Week of April 23, 2001—Tentative

Tuesday, April 24, 2001

10:25 a.m.—Affirmation Session (Public Meeting) (if needed)

10:30 a.m.—Discussion of Intragovernmental Issues (Closed—Ex. 9)

Week of April 30, 2001—Tentative

There are no meetings scheduled for the Week of April 30, 2001.

Week of May 7, 2001—Tentative

Thursday, May 10, 2001

10:25 a.m.—Affirmation Session (Public Meeting) (If needed)

10:30 a.m.—Briefing on Office of Nuclear Regulatory Research (RES) Programs and Performance (Public Meeting) (Contact: James Johnson, 301-415-6802)

Friday, May 11, 2001

10:30 a.m.—Meeting with Advisory Committee on Reactor Safeguards (ACRS) (Public Meeting) (Contact: John Larkins, 301-415-7360)

The schedule for Commission meetings is subject to change on short notice. To verify the status of meetings call (recording)—(301) 415-1292. Contact person for more information: David Louis Gamberoni (301) 415-1651.

The NRC Commission Meeting Schedule can be found on the Internet at: http://www.nrc.gov/SECY/smj/schedule.htm.

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: March 29, 2001.
David Louis Gamberoni,
Technical Coordinator, Office of the Secretary.

[FR Doc. 01-8232 Filed 3-30-01; 10:30 am]

BILLING CODE 7590-01-M